SECURITIES AND EXCHANGE COMMISSION

Sunshine Act Meeting Notice

Federal Register Citation of Previous Announcement: [67 FR 15258, March 29, 2002].

Status: Closed Meeting.

Place: 450 Fifth Street, NW., Washington, DC.

Date and Time of Previously Announced Meeting: Tuesday, April 2, 2002 at 10:00 a.m.

Change in the Meeting: Additional Item.

The following item has been added to the closed meeting scheduled for Tuesday, April 2, 2002: consideration of amicus participation.

Commissioner Hunt, as duty officer, determined that Commission business required the above change and that no earlier notice thereof was possible.

At times, changes in Commission priorities require alterations in the scheduling of meeting items. For further information and to ascertain what, if any, matters have been added, deleted or postponed, please contact: The Office of the Secretary at (202) 942-7070.

Dated: March 29, 2002.
Margaret H. McFarland,
Deputy Secretary.

[FR Doc. 02-8113 Filed 3-29-02; 4:07 pm]

BILLING CODE 8010-01-P